DEPARTMENT OF COMMERCE

Foreign-Trade Zones Board

[Docket T-4-2011]

Foreign-Trade Zone 77—Memphis, TN; Withdrawal of Request for Temporary/Interim Manufacturing Authority; Flextronics Logistics USA, Inc., (Cell Phone/Mobile Handset Kitting). Memphis, TN

Notice is hereby given of the withdrawal of the application of the City of Memphis, grantee of FTZ 77, requesting temporary/interim manufacturing authority on behalf of Flextronics Logistics USA, Inc. in Memphis Tennessee. The application was filed on August 19, 2011 (76 FR 53115, 08/25/2011).

The case has been closed without prejudice.

Dated: September 19, 2011.
Andrew McGilvray,
Executive Secretary.

[FR Doc. 2011-25304 Filed 9-29-11; 8:45 am]

BILLING CODE P